DEPARTMENT OF TRANSPORTATION

Federal Aviation Administration

14 CFR Part 39

[Docket No. FAA-2023-1056; Project Identifier MCAI-2023-00179-T; Amendment 39-22563; AD 2023-20-04]

RIN 2120-AA64

Airworthiness Directives; Airbus SAS Airplanes

AGENCY: Federal Aviation Administration (FAA), DOT.

ACTION: Final rule.

SUMMARY: The FAA is adopting a new airworthiness directive (AD) for certain Airbus SAS Model A350-941 and A350-1041 airplanes. This AD is prompted by reports that excessively deep spot faces on the front engine mounting bolt holes on the wing pylon were detected on the production line. This AD requires a one-time inspection for clash (interference) of the three front engine mounting bolt holes on both the left and right wing pylons, and, depending on findings, accomplishment of applicable corrective actions, as specified in a European Union Aviation Safety Agency (EASA) AD, which is incorporated by reference. The FAA is issuing this AD to address the unsafe condition on these products.

DATES: This AD is effective November 9, 2023.

The Director of the Federal Register approved the incorporation by reference of a certain publication listed in this AD as of November 9, 2023.

ADDRESSES:

AD Docket: You may examine the AD docket at regulations.gov under Docket No. FAA-2023-1056; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website ad.easa.europa.eu.

• You may view this material at the FAA, Airworthiness Products Section, Operational Safety Branch, 2200 South 216th Street, Des Moines, WA. For information on the availability of this material at the FAA, call 206-231-3195. It is also available in the AD docket at regulations.gov under Docket No. FAA-2023-1056.

FOR FURTHER INFORMATION CONTACT: Dat Le, Aviation Safety Engineer, FAA, 1600 Stewart Avenue, Suite 410, Westbury, NY 11590; telephone 516-228-7317; email dat.v.le@faa.gov.

SUPPLEMENTARY INFORMATION:

Background

The FAA issued a notice of proposed rulemaking (NPRM) to amend 14 CFR part 39 by adding an AD that would apply to certain Airbus SAS Model A350-941 and A350-1041 airplanes. The NPRM published in the Federal Register on June 1, 2023 (88 FR 35785). The NPRM was prompted by AD 2023-0026, dated January 30, 2023, issued by EASA (EASA AD 2023-0026) (also referred to as the MCAI), which is the Technical Agent for the Member States of the European Union. The MCAI states excessively deep spot faces have been detected on the production line on rib 1 at the level of the front engine mount bolting. This could cause possible integration issues between the pylon and the front engine mount, which could lead to interference damage. This condition, if not detected and corrected, could lead to a reduced fatigue life, which could adversely affect the structural integrity of the airplane.

In the NPRM, the FAA proposed to require a one-time inspection for clash (interference) of the three front engine mounting bolt holes on both the left and right wing pylons, and, depending on findings, accomplishment of applicable corrective actions, as specified in EASA AD 2023-0026. The FAA is issuing this AD to address the unsafe condition on these products.

You may examine the MCAI in the AD docket at regulations.gov under Docket No. FAA-2023-1056.

Discussion of Final Airworthiness Directive

Comments

The FAA received comments from Air Line Pilots Association, International (ALPA) who supported the NPRM without change.

The FAA received additional comments from Delta Air Lines (Delta). The following presents the comments received on the NPRM and the FAA's response to each comment.

Request for Another Exception to the MCAI

Delta requested an exception to require only accomplishment of Airbus Service Bulletin A350-71-P011, Revision 01, dated December 20, 2022 (ASB A350-71-P011) and Airbus Service Bulletin A350-71-P015, dated December 20, 2022 (ASB A350-71-P015), “in accordance” with steps in those bulletins. Otherwise, the “in accordance with” in Airbus Service Bulletin A350-54-P006, Rev 01, dated December 20, 2022 (ASB A350-54-P006), and Airbus Service Bulletin A350-54-P008, dated December 20, 2022 (ASB A350-54-P008) might otherwise be inferred as requiring the entire service bulletin, ASB A350-71-P011 or ASB A350-71-P015, as mandatory.

Delta explained that ASB A350-54-P006 and ASB A350-54-P008 required to be accomplished by EASA AD 2023-0026, use the “in accordance with” language to call for implementation of ASB A350-71-P011, and ASB A350-71-P015 and states that ASB A350-71-P011 and ASB A350-71-P015 do not have the paragraph specifying “Required for compliance” (RC) actions. Delta states this might infer the entire ASB A350-71-P011 or ASB A350-71-P015 must be accomplished for AD compliance.

The FAA agrees to clarify. The FAA AD refers to EASA AD 2023-0026, which requires following the mandatory (required for compliance) actions in ASB A350-54-P006 and ASB A350-54-P008. These two service bulletins include RC actions that specify that specific actions must be done in accordance with ASB A350-71-P011 and ASB A350-71-P015. Additionally, ASB A350-71-P011 and ASB A350-71-P015, specify in a note within the accomplishment instructions that “access and close-up instructions, not comprising return to service tests” can be omitted or amended to add flexibility to their maintenance operations as long as the technical intent is met. Therefore, the required actions in ASB A350-71-P011 and ASB A350-71-P015 are those that are not specified as access or close-up instructions, and are the actions specifically described by ASB A350-54-P006 and ASB A350-54-P008. As an example, ASB A350-54-P006 specifies to “Disassemble the retention bracket assy and the 3 pylon bolt assemblies during engine removal”, for which the technical intent of the ASB A350-54-P006 is to comply with the instructions in ASB A350-71-P011 that include these actions.

Request for Clarification if the Test Section in the Bulletins Are Required

Delta requested clarification on whether the Test Section in ASB A350-54-P006, ASB A350-54-P008, ASB A350-71-P011, and ASB A350-71-P015 are required. The instructions do not use “in accordance with” or “refer to” language, leaving confusion.

The “Test” sections of ASB A350-54-P006 and ASB A350-54-P008 require the accomplishment of tests given in other topics which are referenced in ASB A350-71-P011 or ASB A350-71-P015. The “Test” sections of ASB A350-71-P011 and ASB A350-71-P015 state “Do the test procedure as specified in the installation of the demountable power plant (FIN 4000EM1 or 2), refer to MP A350-A-71-00-51-00ZZZ-720Z-A.”

The FAA provides the following clarification. The tests specified in ASB A350-54-P006 and ASB A350-54-P008 are required. The Required for Compliance section of the Accomplishment Instructions states that paragraph 3.E. are RC. Any mandatory language, such as accomplishment of tests, in 3.E. is therefore required. As described by the commenter, since the Test sections of ASB A350-54-P006 and ASB A350-54-P008 specify that the accomplishment of Tests given in other topics are also required, therefore the Test sections in ASB A350-71-P011 and ASB A350-71-P015 are also required. The FAA has not changed this AD as a result of this comment.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2023-0026 specifies procedures for a one-time inspection for clash of the three pylon bolt holes at rib 1 (forward engine attachment on pylon), on both the left and right wing pylons, and applicable corrective actions. Corrective actions include installing the post-mod retention bracket assembly; accomplishing a detailed inspection and a high frequency eddy current (HFEC) inspection or a penetrant inspection on rib 1 for damage (cracks, scratches, or erosion of the protective coating); measuring the spot face depth and pylon thickness and obtaining and following instructions if incorrect spot face depth or pylon thickness at the spot face are found; and repair. This material is reasonably available because the interested parties have access to it through their normal course of business or by the means identified in the ADDRESSES section.

Costs of Compliance

The FAA estimates that this AD affects 31 airplanes of U.S. registry. The FAA estimates the following costs to comply with this AD:

Estimated Costs for Required Actions
Labor cost | Parts cost | Cost per product | Cost on U.S. operators
56 work-hours × $85 per hour = $4,760 | $0 | $4,760 | $147,560

The FAA estimates the following costs to do any necessary on-condition action that would be required based on the results of any required actions. The FAA has no way of determining the number of aircraft that might need this on-condition action:

Estimated Costs of On-Condition Actions
Labor cost | Parts cost | Cost per product
10 work-hours × $85 per hour = $850 | $10 | $860

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-20-04 Airbus SAS: Amendment 39-22563; Docket No. FAA-2023-1056; Project Identifier MCAI-2023-00179-T.

(a) Effective Date

This airworthiness directive (AD) is effective November 9, 2023.

(b) Affected ADs

None.

(c) Applicability

This AD applies to Airbus SAS Model A350-941 and A350-1041 airplanes, certificated in any category, as identified in European Union Aviation Safety Agency (EASA) AD 2023-0026, dated January 30, 2023 (EASA AD 2023-0026).

(d) Subject

Air Transport Association (ATA) of America Code 54, Nacelles/pylons.

(e) Unsafe Condition

This AD was prompted by reports that excessively deep spot faces on the front engine mounting bolt holes on the wing pylon were detected on the production line. The FAA is issuing this AD to address potential integration issues between the pylon and the front engine mount, which could lead to interference damage. The unsafe condition, if not addressed, could result in reduced fatigue life, which could adversely affect the structural integrity of the airplane.

(f) Compliance

Comply with this AD within the compliance times specified, unless already done.

(g) Requirements

Except as specified in paragraph (h) of this AD: Comply with all required actions and compliance times specified in, and in accordance with, EASA AD 2023-0026.

(h) Exceptions to EASA AD 2023-0026

(1) Where EASA AD 2023-0026 refers to its effective date, this AD requires using the effective date of this AD.

(2) Where paragraph (2) of EASA AD 2023-0026 refers to “discrepancies,” for this AD discrepancies are any clash (interference) between the lockplate support and rib 1 or between the pylon bolt and the engine mount; damage (cracks, scratches, or erosion of the protective coating); and incorrect spot face depth or pylon thickness at the spot face.

(3) Where paragraph (2) of EASA AD 2023-0026 specifies to “contact Airbus for approved instructions for corrective action and accomplish those instructions accordingly” if discrepancies are detected; for this AD if any cracking is detected, the cracking must be repaired before further flight using a method approved by the Manager, International Validation Branch, FAA; or EASA; or Airbus SAS's EASA Design Organization Approval (DOA). If approved by the DOA, the approval must include the DOA-authorized signature.

(4) This AD does not adopt the “Remarks” section of EASA AD 2023-0026.

(5) Where the service information referenced in EASA AD 2023-0026 specifies to report inspection results or findings, this AD requires submitting information only if damage (cracks) or incorrect spot face depth or pylon thickness at the spot face are found during any inspection required by EASA AD 2023-0026. Operators are required to submit certain information as part of obtaining any corrective actions approved by Airbus SAS's EASA DOA.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA DOA. If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Dat Le, Aviation Safety Engineer, FAA, 1600 Stewart Avenue, Suite 410, Westbury, NY 11590; telephone 516-228-7317; email dat.v.le@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2023-0026, dated January 30, 2023.

(ii) [Reserved]

(3) For EASA AD 2023-0026, contact EASA, Konrad-Adenauer-Ufer 3, 50668 Cologne, Germany; telephone +49 221 8999 000; email ADs@easa.europa.eu; website easa.europa.eu. You may find this EASA AD on the EASA website ad.easa.europa.eu.

(4) You may view this material at the FAA, Airworthiness Products Section, Operational Safety Branch, 2200 South 216th Street, Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on September 29, 2023.
Victor Wicklund,
Deputy Director, Compliance & Airworthiness Division, Aircraft Certification Service.

[FR Doc. 2023-22085 Filed 10-4-23; 8:45 am]

BILLING CODE 4910-13-P